JUDICIAL CONFERENCE OF THE UNITED STATES

Hearing of the Judicial Conference Advisory Committee on Rules of Civil Procedure

AGENCY: Judicial Conference of the United States, Advisory Committee on Rules of Civil Procedure.

ACTION: Notice of open hearing.

SUMMARY: The Advisory Committee on Rules of Civil Procedure has proposed amendments to Rule C of the Supplemental Rules for Certain Admiralty and Maritime Claims. A public hearing on the amendments is scheduled to be held in Washington, DC on March 12, 2001.

The Judicial Conference Committee on Rules Practice and Procedure submits this rule for public comment. All comments and suggestions with respect to the amendments must be placed in the hands of the Secretary as soon as convenient and, in event, not later than April 2, 2001. Those wishing to testify should contact the Secretary at the address below in writing at least 21 days before the hearing. All written comments on the proposed rule amendments should be mailed to: Peter G. McCabe, Secretary, Committee on Rules of Practice and Procedure of the Judicial Conference of the United States, Thurgood Marshall Federal Judiciary Building, Washington, DC 20544.

Comments on the proposed rule amendments may also be sent electronically via the Internet at http://www.uscourts.gov/rules. In accordance with established procedures all comments submitted on the proposed amendments are available to public inspection.

The text of the proposed rule amendments and the accompanying Committee Notes can be found at the United States Federal Courts' Home Page at http://www.uscourts.gov/rules on the Internet.

FOR FURTHER INFORMATION CONTACT: John K. Rabiej, Chief, Rules Committee Support Office, Administrative Office of the United States Courts, Washington, DC 20544, telephone (202) 502-1820.

Dated: January 12, 2001.
John K. Rabiej,
Chief, Rules Committee Support Office.

[FR Doc. 01-1476 Filed 1-17-01; 8:45 am]

BILLING CODE 2210-55-M